DEPARTMENT OF COMMERCE

International Trade Administration

[A-570-863]

Honey From the People's Republic of China: Final Rescission of Antidumping Duty Administrative Review

AGENCY: Import Administration, International Trade Administration, Department of Commerce.

SUMMARY: On January 3, 2012, the Department of Commerce (“Department”) published in the Federal Register the preliminary rescission of the ninth administrative review, covering the period December 1, 2009, through November 30, 2010, of the antidumping duty order on honey from the People's Republic of China (“PRC”).¹ We gave interested parties an opportunity to comment on the Preliminary Rescission. After reviewing interested parties' comments, we made no changes for the final rescission of this review.

¹ See Honey from the People's Republic of China: Preliminary Rescission of the Administrative Review, 77 FR 79 (January 3, 2012) (“Preliminary Rescission”).

DATES: Effective Date: June 11, 2012.

FOR FURTHER INFORMATION CONTACT: Josh Startup or Catherine Bertrand, AD/CVD Operations, Office 9, Import Administration, International Trade Administration, U.S. Department of Commerce, 14th Street and Constitution Avenue NW., Washington, DC 20230; telephone: (202) 482-5260 or (202) 482-3207, respectively.

SUPPLEMENTARY INFORMATION:

Background

The Department received timely requests from Petitioners ² and Dongtai Peak Honey Industry Co., Ltd. (“Dongtai Peak”), a Chinese producer and exporter of honey, in accordance with 19 CFR 351.213(b), during the anniversary month of December, to conduct a review of honey exporters from the PRC. On January 28, 2011, the Department initiated this review with respect to all 60 requested companies.³

² The American Honey Producers Association and Sioux Honey Association, collectively “Petitioners.”

³ See Initiation of Antidumping and Countervailing Duty Administrative Reviews, 76 FR 5137 (January 28, 2011) (“Initiation Notice”).

On February 7, 2011, Mongolia Altin Bee-Keeping Co., Ltd., Suzhou Shanding Honey Product Co., Ltd., and Wuhu Fenglian Co., Ltd. submitted a letter certifying they had no shipments during the POR and requesting the Department rescind this review with respect to each of them.⁴ On February 24, 2011, Petitioners withdrew the request for review for all companies requested except for Dongtai Peak. On March 9, 2011, the Department published a notice of partial rescission in the Federal Register for all of the companies for which the request for review was withdrawn.⁵ Dongtai Peak remains the only company subject to this review. On August 4, 2011, the Department published a notice extending the time period for issuing the preliminary results by 120 days to December 31, 2011.⁶

⁴ Companies have the opportunity to submit statements certifying that they did not ship the subject merchandise to the United States during the POR.

⁵ See Honey from the People's Republic of China: Partial Rescission of Antidumping Duty Administrative Review, 76 FR 12940 (March 9, 2011).

⁶ See Ninth Administrative Review of Honey From the People's Republic of China: Extension of Time Limit for the Preliminary Results, 76 FR 47238 (August 4, 2011).

As noted above, on January 3, 2012, the Department published the Preliminary Rescission of this administrative review. We set the deadline for interested parties to submit case briefs and rebuttal briefs to February 8, 2012, and February 13, 2012, respectively.⁷ On February 13, 2012, we extended the deadline for parties to submit rebuttal briefs to February 21, 2012. On February 8, 2012, Dongtai Peak and Petitioners both filed case briefs. On February 21, 2012, both Dongtai Peak and Petitioners filed rebuttal briefs.

⁷ See Memo to the File From Josh Startup Re: Honey from the People's Republic of China (“PRC”): Case Brief Schedule, dated January 9, 2012.

Analysis of Comments Received

All issues raised in the case and rebuttal briefs by parties to these reviews are addressed in the “Issues and Decision Memorandum: Administrative Review of Honey from the People's Republic of China: Final Rescission of Antidumping Duty Administrative Review,” (“Issues and Decision Memorandum”) which is dated concurrently with this notice, and which is hereby adopted by this notice. A list of the issues which parties raised and to which we respond in the Issues and Decision Memorandum is attached to this notice as Appendix I. The Issues and Decision Memorandum is a public document and is on file electronically via Import Administration's Antidumping and Countervailing Duty Centralized Electronic Service System (“IA ACCESS”). Access to IA ACCESS is available in the Central Records Unit, room 7046 of the main Department of Commerce building. In addition, a complete version of the Issues and Decision Memorandum can be accessed directly on the Internet at http://www.trade.gov/ia/. The signed Issues and Decision Memorandum and the electronic versions of the Issues and Decisions Memorandum are identical in content.

Scope of the Order

The products covered by the order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to the order is currently classifiable under subheadings 0409.00.00, 1702.90.90, 2106.90.99, 0409.00.0010, 0409.00.0035, 0409.00.0005, 0409.00.0045, 0409.00.0056, and 0409.00.0065 of the Harmonized Tariff Schedule of the United States (“HTSUS”). Although the HTSUS subheadings are provided for convenience and customs purposes, the Department's written description of the merchandise under the order is dispositive.

Final Rescission of Administrative Review

In the Preliminary Rescission, the Department preliminarily rescinded the administrative review of Dongtai Peak, whose POR sales the Department found to be not bona fide.⁸ The Department received comments with respect to our preliminary decision to rescind the review. The Department continues to find the sales made by Dongtai Peak during the POR to be not bona fide.⁹

⁸ See Preliminary Rescission; see also Memorandum to James C. Doyle, Director, Office 9; through Catherine Bertrand, Program Manager; from Josh Startup, International Trade Compliance Analyst; regarding Antidumping Duty Administrative Review of Honey from the People's Republic of China: Bona fide Analysis of the Sales Under Review for Dongtai Peak Honey Industry Co., Ltd. (dated December 23, 2011).

⁹ See Issues and Decision Memorandum.

Therefore, we are rescinding this review of the antidumping duty order on honey from the PRC for the period of December 1, 2009, through November 30, 2010. The cash deposit rate for the Dongtai Peak will continue to be the rate established in the most recently completed segment of this proceeding.¹⁰

¹⁰ See Administrative Review of Honey from the People's Republic of China: Final Results of Antidumping Duty Administrative Review and Rescission of Review, In Part, 75 FR 24880 (May 6, 2010).

The Department will instruct U.S. Customs and Border Protection (“CBP”) to assess antidumping duties on all appropriate entries. Because the Department has not completed an administrative review, antidumping duties shall be assessed at rates equal to the cash deposit of estimated antidumping duties required at the time of entry, or withdrawal from warehouse, for consumption, in accordance with 19 CFR 351.212(c)(2). The Department intends to issue appropriate assessment instructions directly to CBP 15 days after publication of this notice.

Notification to Importers

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Tariff Act of 1930, as amended and 19 CFR 351.213(d)(4).

Dated: June 4, 2012.
Paul Piquado,
Assistant Secretary for Import Administration.

Appendix I—Decision Memorandum

Company Specific Issues

Comment 1: Bona Fide Analysis of Dongtai Peak's Sales.

Comment 2: Validity of the Company Certification Provided by the Resale Customer.

Comment 3: Alleged Undisclosed U.S. Affiliate D.T. Peak.

[FR Doc. 2012-14142 Filed 6-8-12; 8:45 am]

BILLING CODE 3510-DS-P